DEPARTMENT OF THE INTERIOR

National Park Service

Susquehanna to Roseland 500kV Transmission Line, Environmental Impact Statement, Delaware Water Gap National Recreation Area, Middle Delaware National Scenic and Recreational River, and Appalachian National Scenic Trail, Pennsylvania and New Jersey

AGENCY: National Park Service, Department of the Interior.

ACTION: Notice of intent to prepare an Environmental Impact Statement (EIS) for a construction and right-of-way permit requested from Delaware Water Gap National Recreation Area, Middle Delaware National Scenic and Recreational River, and Appalachian National Scenic Trail, in connection with the Susquehanna to Roseland 500kV Transmission Line.

SUMMARY: Pursuant to National Environmental Policy Act of 1969, 42 U.S.C. 4332(2)(C), the National Park Service (NPS) is preparing an Environmental Impact Statement (EIS) and conducting public scoping meetings for a construction and right-of-way permit requested from Delaware Water Gap National Recreation Area, Middle Delaware National Scenic and Recreational River, and Appalachian National Scenic Trail, in connection with the proposed Susquehanna (Berwick, Pennsylvania) to Roseland, New Jersey 500 kilovolt (kV) Transmission Line. The line is being proposed by Pennsylvania Power and Light Electric Utilities (PPL) and Public Service Electric and Gas Company (PSE&G), and would cross the Delaware Water Gap National Recreation Area (DEWA), Middle Delaware National Scenic and Recreational River, and Appalachian National Scenic Trail (AT), in Pennsylvania and New Jersey. This NPS EIS will examine a range of feasible alternatives and evaluate potential impacts on the natural resource and cultural resource values, and the human environment in the areas of these NPS units.

PPL and PSE&G, applicants for an NPS permit, have proposed expansion of an existing electric transmission line right-of-way that crosses the three NPS units. The Applicants currently have a 230 kV transmission line running through their existing right-of-way. They are proposing to replace the existing line with a double circuit 500 kV transmission line with one circuit being operated at 500 kV and the second circuit being energized at 230 kV. The two circuits would be separate but carried on the same structures. The existing single 230 kV power line and towers currently on the right-of-way would be removed and replaced with larger towers. This would necessitate widening the cleared area, and the granting of additional rights to expand the width of the transmission line right-of-way beyond the Applicant's current holdings. The Applicants are also proposing to build new roads and rehabilitate and widen existing roads in DEWA for accessing the transmission line corridor. The Applicant's stated purpose for the project is to strengthen the grid at the direction of the Regional Transmission Operator, PJM Interconnection (PJM). PJM oversees the overall movement of wholesale electricity between many electric utilities throughout a 13 state region. PJM's 2007 load forecast model identified 23 projected reliability criteria violations, starting in 2012 and beyond, that the proposed project is designed to alleviate.

The Federal action under consideration in this EIS is the Applicant's proposal that the National Park Service grant the permits it has requested. The National Park Service's purpose in taking action is to respond to the Applicant's expressed need to expand its current right-of-way to construct new and taller power lines and add an additional 500kV power line, in light of the purposes and resources of the affected units of the National Park System, as expressed in statutes, regulations, and policies. Federal action is needed because the applicant has submitted the required applications and construction plan to replace and expand the existing line in accordance with 36 CFR Part 14 and applicable NPS Management Policies. The NPS therefore has a duty to consider whether, and with what conditions, if any, to issue the requested permits.

The NPS will analyze the proposed action and no action alternatives, as well as other possible alternatives including granting of the permits as requested, granting of the permits with stipulations, or denying the permits, and alternatives to the proposed line both within and outside the park. The NPS expects to identify additional alternatives, issues concerning the alternatives, and alternative mitigation strategies during the public scoping process.

This notice initiates the public participation and scoping process for the EIS. The public is invited to comment on the purpose, need, objectives, preliminary alternatives, or any other issues associated with the proposal. Information that details the purpose, need, and issues identified to date is available from the NPS Planning, Environment and Public Comment (PEPC) website at http://parkplanning.nps.gov/dewa/.

Dates and Meeting Notices: The public scoping period will commence on the date this notice is published in the Federal Register and last for at least 30 days. The NPS will hold public meetings near the parks and surrounding region to provide the public an opportunity to review the proposal and project information. All public meetings will be announced through local media, mailings, and the NPS PEPC Web site at http://parkplanning.nps.gov/dewa/. Comments will be accepted within 30 days after this publication date and/or until at least 15 days after the last public scoping meeting.

ADDRESSES: Comments on issues, potential impacts, or suggestions for additional alternatives can be submitted using any one of the following methods. You may submit comments through the NPS PEPC Web site at http://parkplanning.nps.gov/dewa/, which is the preferred method. You may mail your comments to the National Park Service, Attention: DEWA PPL EIS Planning Team, Denver Service Center—Planning, P.O. Box 25287, Denver, CO 80225. Comments may also be submitted at any of the three public meetings to be announced.

FOR FURTHER INFORMATION CONTACT: Kara Deutsch, NEPA Compliance Specialist, Delaware Water Gap National Recreation Area, HQ River Rd. off Route 209, Bushkill, PA 18324-9999, telephone 570-426-2491.

SUPPLEMENTARY INFORMATION: Before including your address, phone number, e-mail address or other personal identifying information in your comment, you should be aware your entire comment—including your personal identifying information—may be made publicly available at any time. While you can ask us in your comment to withhold identifying information from public review, we cannot guarantee that we will be able to do so. The NPS will not consider anonymous comments. All submissions from organizations and businesses, and from individuals identifying themselves as representatives or officials of organizations or businesses, will be available for public inspection in their entirety.

Michael T. Reynolds,
Acting Regional Director, Northeast Region, National Park Service.

[FR Doc. 2010-1094 Filed 1-20-10; 8:45 am]

BILLING CODE 4312-J6-P